DEPARTMENT OF VETERANS AFFAIRS

Corporate Senior Executive Management Office

Notice of Performance Review Board Members

AGENCY: Department of Veterans Affairs.

ACTION: Notice.

SUMMARY: Under the provisions of 5 U.S.C. 4314(c)(4), agencies are required to publish a notice in the Federal Register of the appointment of Performance Review Board (PRB) members. This notice announces the appointment of persons to serve on the Performance Review Board of the Department of Veterans Affairs for fiscal year 2011.

DATES: Effective Date: October 18, 2011.

FOR FURTHER INFORMATION CONTACT: Kimberly Litherland, Programs Director, Corporate Senior Executive Management Office, Department of Veterans Affairs, 810 Vermont Avenue, NW., Washington, DC 20420, (202) 461-7887.

SUPPLEMENTARY INFORMATION: The membership of the Department of Veterans Affairs Performance Review Board is as follows:

Jose D. Riojas Assistance Secretary for Operations, Security, and Preparedness (Chair).

Michael Cardarelli, Principal Deputy Under Secretary of Benefits.

Robert Jesse, M.D., PhD, Principal Deputy Under Secretary for Health.

John H. Thompson, Deputy General Counsel.

Georgia Coffey, Deputy Assistance Secretary for Diversity and Inclusion Management (EEO Representative).

Marilee Fitzgerald, Director, Department of Defense Education Activity.

Irene Trowell-Harris, R.N., Ed.D, Director, Center for Women Veterans (Alternate).

Dated: October 5, 2011.
John R. Gingrich,
Chief of Staff, Department of Veterans Affairs.

[FR Doc. 2011-26933 Filed 10-17-11; 8:45 am]

BILLING CODE 8320-01-P